NATIONAL SCIENCE FOUNDATION

Sunshine Act Meeting

AGENCY HOLDING MEETING: National Science Foundation, National Science Board.

DATE AND TIME: May 23, 2001: 12 Noon-12:30 p.m.—Closed Session. May 24, 2001: 1 p.m.-2:15 p.m.—Closed Session. May 24, 2001: 2:15 p.m.-5 p.m.—Open Session.

PLACE: The National Science Foundation, Room 1235, 4201 Wilson Boulevard, Arlington, VA 22230, www.nsf.gov/nsb.

STATUS: Part of this meeting will be closed to the public. Part of this meeting will be open to the public.

MATTERS TO BE CONSIDERED:

Wednesday, May 23, 2001

Closed Session (12 Noon-12:30 p.m.)

—Closed Session Minutes, March, 2001

—Election, NSB Executive Committee

Thursday, May 24, 2001

Closed Session (1 p.m.-2:15 p.m.)

—Awards and Agreements

—NSF Budget

Open Session (2:15 p.m.-5 p.m.)

—Presentations: Honorary Awards Recipients

—Open Session Minutes, March, 2001

—Closed Session Items for August, 2001

—Chairman's Report

—Director's Report

—NSB Annual Business

—Committee Reports

—Other Business

Marta Cehelsky,
Executive Director.

[FR Doc. 01-12386 Filed 5-11-01; 3:39 pm]

BILLING CODE 7555-01-M